INTERNATIONAL TRADE COMMISSION

[Investigation No. 332-521]

Advice Concerning Possible Modifications to the U.S. Generalized System of Preferences: 2010 Review of Removals

AGENCY: United States International Trade Commission.

ACTION: Institution of investigation and scheduling of hearing.

SUMMARY: Following receipt of a request on October 21, 2010, from the United States Trade Representative (USTR), the U.S. International Trade Commission (Commission) instituted investigation No. 332-521, Advice Concerning Possible Modifications to the U.S. Generalized System of Preferences: 2010 Review of Removals, for the purpose of providing advice as to the probable economic effect of the removal of certain products from one or more countries from the list of products eligible for duty-free treatment under the U.S. GSP program.

DATES:

November 15, 2010: Deadline for filing a request to appear at the public hearing.

November 17, 2010: Deadline for filing pre-hearing briefs and statements.

December 1, 2010: Public hearing.

December 8, 2010: Deadline for filing post-hearing briefs and statements.

December 8, 2010: Deadline for filing all other written submissions.

February 7, 2011: Transmittal of Commission report to the United States Trade Representative.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Information specific to this investigation may be obtained from Vincent Honnold, Project Leader, Office of Industries (202-205-3314 or vincent.honnold@usitc.gov) or Shannon Gaffney, Deputy Project Leader, Office of Industries (202-205-3316 or shannon.gaffney@usitc.gov). For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background

The USTR requested the advice under authority delegated by the President pursuant to section 332(g) of the Tariff Act of 1930 (19 U.S.C. 1332(g)). As requested, the Commission will provide advice as to the probable economic effect on U.S. industries producing like or directly competitive articles, on U.S. imports, and on U.S. consumers of the removal from eligibility for duty-free treatment under the Generalized System of Preferences (GSP) program of the following products/HTS subheadings: (1) HTS subheading 9404.30.80 (sleeping bags, not containing 20 percent or more by weight of feathers and/or down) with respect to all beneficiary countries; and (2) HTS subheadings 3919.10.20 and 3919.90.50 (certain types of self-adhesive plates, sheets, film, foil, tape, strip and other flat shapes, of plastics) from Indonesia. As requested, the Commission will provide its advice by February 7, 2011. The USTR indicated that those sections of the Commission's report and related working papers that contain the Commission's advice will be classified as “confidential” and as “privileged.”

Public Hearing

A public hearing in connection with this investigation will be held at the U.S. International Trade Commission Building, 500 E Street, SW., Washington, DC, beginning at 9:30 a.m. on December 1, 2010. Requests to appear at the public hearing should be filed with the Secretary, no later than 5:15 p.m., November 15, 2010, in accordance with the requirements in the “Submissions” section below. All pre-hearing briefs and statements should be filed not later than 5:15 p.m., November 17, 2010; and all post-hearing briefs and statements should be filed not later than 5:15 p.m., December 8, 2010. In the event that, as of the close of business on November 15, 2010, no witnesses are scheduled to appear at the hearing, the hearing will be canceled. Any person interested in attending the hearing as an observer or nonparticipant may call the Secretary to the Commission (202-205-2000) after November 15, 2010, for information concerning whether the hearing will be held.

Written Submissions

In lieu of or in addition to participating in the hearing, interested parties are invited to file written submissions concerning this investigation. All written submissions should be addressed to the Secretary, and should be received not later than 5:15 p.m., December 8, 2010. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

The Commission may include in the report it sends to the President and the USTR some or all of the confidential business information it receives in this investigation. The USTR has asked that the Commission make available a public version of its report shortly after it sends its report to the President and the USTR, with any classified or privileged information deleted. Any confidential business information received in this investigation and used in the preparation of the report will not be published in the public version of the report in such manner as would reveal the operations of the firm supplying the information.

By order of the Commission.
Issued: October 27, 2010.
Marilyn R. Abbott,
Secretary to the Commission.

[FR Doc. 2010-27617 Filed 11-1-10; 8:45 am]

BILLING CODE 7020-02-P